NATIONAL SCIENCE FOUNDATION

Proposal Review Panel for Physics; Notice of Meeting

In accordance with the Federal Advisory Committee Act (Pub. L. 92-463, as amended), the National Science Foundation (NSF) announces the following meeting:

Name and Committee Code: Proposal Review Panel for the Division of Physics (1208)—PFC CTBP Site Visit.

Date and Time: May 15, 2019; 8:30 a.m.-7:00 p.m., May 16, 2019; 8:30 a.m.-4:00 p.m.

Place: Rice University, 6100 Main Street, Houston, TX 77251-1892.

Type of Meeting: Part-Open.

Contact Person: Jean Cottam-Allen, Program Director for Physics Frontier Centers, Division of Physics, National Science Foundation, 2415 Eisenhower Avenue, Room 9245, Alexandria, VA 22314; Telephone: (703) 292-8783.

Purpose of Meeting: Site visit to provide an evaluation of the progress of the projects at the host site for the Division of Physics at the National Science Foundation.

Agenda

May 15, 2019; 8:30 a.m.-7:00 p.m.

0830-1200 Panel Session: Presentations on Center Overview, Management and Science

1200-1330 unch with Graduate Students and Postdocs

1330-1600 Panel Session: Continued Science Presentations, Education and Outreach

1600-1700 Executive Session—CLOSED SESSION

1700-1900 Poster Session

1900 Executive Session—CLOSED SESSION

May 16, 2019; 8:30 a.m.-4:00 p.m.

0830-1100 Meeting with University Administrators; Discussion with Center Directors

1100-1500 Executive Session—CLOSED SESSION

1500-1600 Closeout Session with Center Directors

Reason for Closing: Topics to be discussed and evaluated during closed portions of the site review will include information of a proprietary or confidential nature, including technical information and information on personnel. These matters are exempt under 5 U.S.C. 552b(c), (4) and (6) of the Government in the Sunshine Act.

Dated: March 14, 2019.
Crystal Robinson,
Committee Management Officer.

[FR Doc. 2019-05225 Filed 3-19-19; 8:45 am]

BILLING CODE 7555-01-P